DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-02NT41423 entitled “Black Liquor/Biomass Gasification Technology Support Research and Development.” It is the intent of the National Energy Technology Laboratory (NETL), on behalf of the Office of Industrial Technologies (OIT) in the U.S. Department of Energy (DOE) Office of Energy Efficiency and Renewable Energy, to solicit the submission of applications for black liquor/biomass gasification technology support research and development. The areas of interest are: TA-1 Fuels Chemistry; TA-1a Fuels Chemistry—Immediate Needs for Demonstration; TA-1b Fuels Chemistry—Optimization Needs for Sustainable Performance; TA-2 Containment, TA-3 Mill Integration—Steam, Power, Pulping, Causticizing; TA-3a Mill Integration—Steam, Power, Pulping Causticizing—Immediate Needs for Demonstration; TA-3b Mill Integration—Steam, Power, Pulping, Causticizing,—Optimization Needs for Sustainable Performance; TA—4 Process Control and Optimization; TA4a—Process Control and Optimization—Immediate Needs for Demonstration; TA-4b—Process Control and Optimization—Optimization Needs for Sustainable Performance; TA-5—Assurance and Education; TA-5a Assurance and Education—Immediate Needs for Demonstration; TA-5b Assurance and Education—Optimization Needs for Sustainable Performance; TA-6 Project Specific Field Support.

DATES: The solicitation will be available through the DOE/NETL's Internet address at http://www.netl.doe.gov/business and can be accessed on the “Industry Interactive Procurement System” (IIPS) webpage located at http://e-center.doe.gov on or around November 15, 2001.

ADDRESSES: NA.

FOR FURTHER INFORMATION CONTACT: Ms. Deborah J. Boggs, MS IO7, U.S. Department of Energy, National Energy Technology Laboratory, 3610 Collins Ferry Road, P.O. Box 880, Morgantown, WV 26507-0880, E-mail Address: dboggs@netl.doe.gov, Telephone Number: 304-285-4473.

SUPPLEMENTAL INFORMATION: Applied and/or bench-scale research and development support efforts are to be undertaken. These efforts are expected to be promising new concepts and optimization efforts in support of black liquor recovery and biomass gasification technologies to the point that they can be demonstrated in industrial applications, with primary interest in the demonstration projects that are underway. The scope of funded activities is to cover, applied research and development, applications engineering, and proof of concept at the laboratory-scale. Technical areas needed to be addressed include those that are of immediate needs for the demonstration projects and those that optimize existing systems/concepts to improve/sustain gasification performance. The Government anticipates 5-10 awards. Individual awards may range from $500,000-$1.5 million in Government cost-share. The DOE intends to award cooperative agreements, but reserves the right to award whatever instrument is considered to be in the Government's best interest. In accordance with EPAct, applicants are advised that this solicitation contains a recipient 20% cost share requirement for research and development projects and 50% cost share for demonstration or commercial application projects. This is a percent of the total award value, not as a percent of the Government's share. The duration of these projects is expected to range between 3-5 years.

Once released, the solicitation will be available for downloading from the IIPS Internet page. At this Internet site you will also be able to register with IIPS, enabling you to submit an application. If you need technical assistance in registering or for any other IIPS function, call the IIPS Help Desk at (800) 683-0751 or E-mail the Help Desk personnel at IIPS—HelpDesk@e-center.doe.gov. The solicitation will only be made available in IIPS, hard (paper) copies of the solicitation and related documents will not be made available.

Prospective applicants who would like to be notified as soon as the solicitation is available should subscribe to the Business Alert Mailing List at http://www.netl.doe.gov/business. Once you subscribe, you will receive an announcement by E-mail that the solicitation has been posted on IIPS. Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV on November 9, 2001.
Randolph L. Kesling,
Director, Acquisition and Assistance Division.

[FR Doc. 01-29245 Filed 11-21-01; 8:45 am]

BILLING CODE 6450-01-P